ENVIRONMENTAL PROTECTION AGENCY

[Docket #EPA-RO4-SFUND-2009-0903, FRL-9095-4]

East 23rd Battery Superfund Site, Tampa, Hillsborough County, FL; Notice of Settlement

AGENCY: Environmental Protection Agency.

ACTION: Notice of settlement.

SUMMARY: Under Section 122(h)(1) of the Comprehensive Environmental Response, Compensation and Liability Act (CERCLA), the United States Environmental Protection Agency has entered into a settlement for reimbursement of past response costs concerning the East 23rd Battery Site located in Tampa, Hillsborough County, Florida for publication.

DATES: The Agency will consider public comments on the settlement until January 22, 2010. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2009-0903 or Site name East 23rd Battery Superfund Site by one of the following methods:

• http://www.regulations.gov: Follow the online instructions for submitting comments.

• http://www.epa.gov/region4/waste/sf/enforce.htm.

• E-mail: Painter.Paula@epa.gov.

FOR FURTHER INFORMATION CONTACT: Paula V. Painter at 404/562-8887.

Dated: December 7, 2009.
Anita L. Davis,
Chief, Superfund Enforcement & Information Management Branch, Superfund Division.

[FR Doc. E9-30496 Filed 12-22-09; 8:45 am]

BILLING CODE 6560-50-P